NATIONAL AERONAUTICS AND SPACE ADMINISTRATION

[Notice (16-001)]

Notice of Intent to Grant Exclusive Term License

AGENCY: National Aeronautics and Space Administration.

ACTION: Notice of Intent to Grant Exclusive Term License.

SUMMARY: This notice is issued in accordance with 35 U.S.C. 209(e) and 37 CFR 404.7(a)(1)(i). NASA hereby gives notice of its intent to grant an exclusive term license in the United States to practice the invention described and claimed in U.S. Patent Applications Serial Numbers 12/571,049 and 14/168,830, Polyimide Aerogels With Three Dimensional Cross-Linked Structure, LEW-18486-1 and LEW 18,486-2; U.S. Patent Serial Number 8,974,903, Porous Cross-Linked Polyimide-Urea Networks, LEW-18825-1; U.S. Patent Serial Number 9,109,088, Porous Cross-Linked Polyimide Networks, LEW-18864-1; and U.S. Patent Application Serial Number 14/193,719, Process for Preparing Aerogels from Polyamides, LEW-19053-1; U.S. Patent Application Serial Number 14/698,084, Polyalkylene Imide Aerogel, LEW-19108-1; and, U.S. Patent Application Serial Number 14/660,492, Polyimide Aerogels with Polyamide Cross-Links, LEW-19200-1, to Aerogel Technologies, LLC, having its principal place of business in Boston, Massachusetts. The fields of use may be limited to monoliths of polyimide and/or polyamide aerogel with a thickness of 3 mm or greater in the fields of engineering materials, aviation, and automotive plastics. The patent rights in these inventions as applicable have been assigned to the United States of America as represented by the Administrator of the National Aeronautics and Space Administration. The prospective exclusive license will comply with the terms and conditions of 35 U.S.C. 209 and 37 CFR 404.7.

DATES: The prospective exclusive license may be granted unless, within fifteen (15) days from the date of this published notice, NASA receives written objections including evidence and argument that establish that the grant of the license would not be consistent with the requirements of 35 U.S.C. 209 and 37 CFR 404.7. Competing applications completed and received by NASA within fifteen (15) days of the date of this published notice will also be treated as objections to the grant of the contemplated exclusive license.

Objections submitted in response to this notice will not be made available to the public for inspection and, to the extent permitted by law, will not be released under the Freedom of Information Act, 5 U.S.C. 552.

ADDRESSES: Objections relating to the prospective license may be submitted to Patent Counsel, Office of Chief Counsel, NASA Glenn Research Center, 21000 Brookpark Rd,

MS 142-7, Cleveland OH 44135. Phone (216) 433-3663. Facsimile (216) 433-6790.

FOR FURTHER INFORMATION CONTACT: Robert Earp, Patent Counsel, Office of Chief Counsel, NASA Glenn Research Center, 21000 Brookpark Rd, MS 142-7, Cleveland OH 44135. Phone (216) 433-3663. Facsimile (216) 433-6790. Information about other NASA inventions available for licensing can be found online at https://technology.grc.nasa.gov.

Mark P. Dvorscak,
Agency Counsel for Intellectual Property.

[FR Doc. 2016-01426 Filed 1-25-16; 8:45 am]

BILLING CODE 7510-13-P